DEPARTMENT OF AGRICULTURE

Animal and Plant Health Inspection Service

[Docket No. APHIS-2017-0053]

Availability of an Environmental Assessment and Finding of No Significant Impact for a Biological Control Agent for Swallow-Worts

AGENCY: Animal and Plant Health Inspection Service, USDA.

ACTION: Notice.

SUMMARY: We are advising the public that an environmental assessment and finding of no significant impact have been prepared by the Animal and Plant Health Inspection Service relative to the release of a leaf-feeding moth, Hypena opulenta, for the biological control of swallow-worts (Vincetoxicum nigrum and Vincetoxicum rossicum). Based on its finding of no significant impact, the Animal and Plant Health Inspection Service has determined that an environmental impact statement need not be prepared.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2327, email: Colin.Stewart@aphis.usda.gov.

SUPPLEMENTARY INFORMATION: The Animal and Plant Health Inspection Service (APHIS) is proposing to issue permits for the release of a leaf-feeding moth, Hypena opulenta, into the continental United States for use as a biological control agent to reduce the severity of swallow-wort (Vincetoxicum nigrum and Vincetoxicum rossicum) infestations.

On July 13, 2017, we published in the Federal Register (82 FR 32318, Docket No. APHIS-2017-0053) a notice ¹ in which we announced the availability, for public review and comment, of an environmental assessment (EA) that examined the potential environmental impacts associated with the proposed release of the biological control agent into the continental United States.

¹ To view the notice, EA, FONSI, and the comments we received, go to http://www.regulations.gov/#!docketDetail;D=APHIS-2017-0053.

We solicited comments on the EA for 30 days ending August 14, 2017. We received 28 comments by that date. With one exception, the comments supported the proposed release.

In this document, we are advising the public of our finding of no significant impact (FONSI) regarding the release of Hypena opulenta into the continental United States for use as a biological control agent to reduce the severity of swallow-wort infestations. The finding, which is based on the EA, reflects our determination that release of this biological control agent will not have a significant impact on the quality of the human environment. Written responses to comments we received on the EA can be found in appendix 4 of the EA.

The EA and FONSI may be viewed on the Regulations.gov Web site (see footnote 1). Copies of the EA and FONSI are also available for public inspection in our reading room, which is located in Room 1141 of the USDA South Building, 14th Street and Independence Avenue SW., Washington, DC. Normal reading room hours are 8 a.m. to 4:30 p.m., Monday through Friday, except holidays. To be sure someone is there to help you, please call (202) 799-7039 before coming. In addition, copies may be obtained by calling or writing to the individual listed under FOR FURTHER INFORMATION CONTACT.

The EA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 15th day of September 2017.
Jere L. Dick,
Acting Administrator, Animal and Plant Health Inspection Service.

[FR Doc. 2017-20122 Filed 9-20-17; 8:45 am]

BILLING CODE 3410-34-P